LEGAL SERVICES CORPORATION

Sunshine Act Meeting of the Search Committee for LSC Inspector General

Time and Date: The Board of Directors Search Committee for LSC Inspector General of the Legal Services Corporation will meet July 19, 2004 from 9 a.m., until conclusion of the Committee's agenda.

Location: The Melrose Hotel, 2430 Pennsylvania Avenue, NW., Washington, DC 20037.

Status of Meeting: Closed. The meeting will be closed pursuant to a vote of the Board of Directors to hold an executive session. At the closed session, the Committee will interview candidates for the position of Inspector General of the Legal Services Corporation and consider the qualifications of these individuals. The Committee will also consider and act on options related to compensating the Inspector General as well as further steps to be taken in connection with the selection and retention of a finalist for the position, and may also consider and act on additional applications submitted for the position of Inspector General. The closing is authorized by 5 U.S.C. 552b(c)(6) and LSC's corresponding regulation 45 CFR 1622.5(e). A copy of the General Counsel's Certification that the closing is authorized by law will be available upon request.

Matters to be Considered:

Closed Session:

1. Approval of agenda.

2. Consider and act on options available to compensate the LSC Inspector General.

3. Interviews of select candidates for the position of LSC Inspector General.

4. Review and discussion regarding qualifications of interviewed and other viable candidates.

5. Consider and act on further steps to be taken in connection with the selection and retention of a finalist for the office of Inspector General.

6. Consider and act on adjournment of meeting.

FOR FURTHER INFORMATION CONTACT: Patricia Batie, Manager of Board Operations, at (202) 295-1500.

Special Needs: Upon request, meeting notices will be made available in alternate formats to accommodate visual and hearing impairments. Individuals who have a disability and need an accommodation to attend the meeting may notify Patricia Batie, at (202) 295-1500.

Dated: July 9, 2004.
Victor M. Fortuno,
Vice President for Legal Affairs, General Counsel & Corporate Secretary.

[FR Doc. 04-15944 Filed 7-9-04; 1:26 pm]

BILLING CODE 7050-01-P